DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 5, 2021.

ADDRESSES: Record Center, Pipeline and Hazardous Materials Safety Administration U.S. Department of Transportation Washington, DC 20590.

Comments should refer to the application number and be submitted in triplicate. If confirmation of receipt of comments is desired, include a self-addressed stamped postcard showing the special permit number.

FOR FURTHER INFORMATION CONTACT: Donald Burger, Chief, Office of Hazardous Materials Safety, General Approvals and Permits Branch, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC.

This notice of receipt of applications for special permit is published in accordance with part 107 of the Federal hazardous materials transportation law (49 U.S.C. 5117(b); 49 CFR 1.53(b)).

Issued in Washington, DC, on March 2, 2021.
Donald P. Burger,
Chief, General Approvals and Permits Branch.

Application No. | Applicant | Regulation(s) affected | Nature of the special permits thereof
Special Permits Data
21192-N | Vacco Industries |  | To authorize the transportation in commerce of non-DOT specification receptacles containing certain refrigerant gases housed within a satellite. (modes 1, 4)
21193-N | KULR Technology Corporation | 172.200, 172.300, 172.700(a), 172.400 | To authorize manufacture, mark, sale, and use of UN specification packagings for the transportation in commerce of batteries including damaged, defective, or recalled lithium ion cells and batteries and lithium metal cells and batteries and those contained in or packed with equipment. (modes 1, 2)
21194-N | Spaceflight, Inc | 173.185(e)(3) | To authorize the transportation in commerce of prototype and low production lithium batteries contained in equipment in alternative packaging by ground transportation. (mode 1)
21195-N | Panasonic Energy Corporation of America | 173.185(c) | To authorize the transportation in commerce of lithium metal batteries in alternative packaging by motor vehicle. (mode 1)
21198-N | Porsche Cars North America, Inc | 172.101(j) | To authorize the transportation in commerce of lithium ion batteries exceeding 35 kg by cargo-only aircraft. (mode 4)
21199-N | Solvay Fluorides, LLC | 173.227(c) | To authorize the transportation in commerce of TIH liquid in drums that are packaged and packed in accordance with the IMDG Code P602. (mode 1, 2, 3)

[FR Doc. 2021-04601 Filed 3-4-21; 8:45 am]

BILLING CODE 4910-60-P